ENVIRONMENTAL PROTECTION AGENCY

[EPA-HQ-OAR-2004-0065; FRL-8471-6]

Agency Information Collection Activities; Submission to OMB for Review and Approval; Comment Request; Application Requirements for the Approval and Delegation of Federal Air Toxics Programs to State, Territorial, Local, and Tribal Agencies; EPA ICR No. 1643.06, OMB Control No. 2060-0264

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 22, 2007.

ADDRESSES: Submit your comments, referencing docket ID number EPA-HQ-OAR-2004-0065, to EPA online using http://www.regulations.gov (our preferred method), or by e-mail to a-and-r-docket@epa.gov, or by mail to: U.S. Environmental Protection Agency, EPA Docket Center (EPA/DC), Air and Radiation Docket and Information Center, MC 2822T, 1200 Pennsylvania Avenue, NW, Washington, DC 20460 (please include a total of two copies), and (2) OMB at: Office of Information and Regulatory Affairs, Office of Management and Budget (OMB), Attention: Desk Officer for EPA, 725 17th Street, NW., Washington, DC 20503.

FOR FURTHER INFORMATION CONTACT: Jeff Whitlow, Office of Air Quality Planning and Standards (OAQPS)/OID, Environmental Protection Agency, mail code MC304-03, Research Triangle Park (RTP), NC 27711; telephone number: 919-541-5523; fax number: 919-685-3307; e-mail address: whitlow.jeff@epa.gov.

SUPPLEMENTARY INFORMATION: EPA has submitted the following ICR to OMB for review and approval according to the procedures prescribed in 5 CFR 1320.12. On April 27, 2007 (72 FR 21003), EPA sought comments on this ICR pursuant to 5 CFR 1320.8(d). EPA received no comments. Any additional comments on this ICR should be submitted to EPA and OMB within 30 days of this notice.

EPA has established a public docket for this ICR under Docket ID No. EPA-HQ-OAR-2004-0065, which is available either electronically at www.regulations.gov, or in hard copy at the Air and Radiation Docket and Information Center, EPA Docket Center, Room Number 3334 in the EPA West Building, located at 1301 Constitution Ave., NW, Washington, DC. The EPA/DC Public Reading Room is open from 8 a.m. to 4:30 p.m. Eastern Standard Time (EST), Monday through Friday , excluding Federal holidays. The telephone number for the Reading Room is 202-566-1744, and the telephone number for the Air and Radiation Docket is (202) 566-1742.

Use EPA's electronic docket and comment system at www.regulations.gov to submit or view public comments, access the index listing of the contents of the docket, and to access those documents in the docket that are available electronically. Once in the system, select “search,” then key in the docket ID number identified above. Please note that EPA's policy is that public comments, whether submitted electronically or in paper, will be made available for public viewing at www.regulations.gov as EPA received them and without change, unless the comment contains copyrighted material, Confidential Business Information (CBI), or other information whose public disclosure is restricted by statute. For further information about the electronic docket, go to www.regulations.gov.

Title: Application Requirements for the Approval and Delegation of Federal Air Toxics Programs to State, Territorial, Local, and Tribal Agencies.

ICR numbers: EPA ICR No. 1643.06, OMB Control No. 2060-0264.

ICR status: This ICR is currently scheduled to expire on September 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This information collection is an application from State, territorial, local, or tribal agencies (S/L/Ts) for delegation of regulations developed under section 112 of the Clean Air Act (Act). The five options for delegation are straight delegation, rule adjustment, rule substitution, equivalency by permit, or state program approval. The information is needed and used to determine if the entity submitting an application has met the criteria established in the subpart E rule, codified as 40 CFR part 63, subpart E, in accordance with section 112(l) of the Act. This information is necessary and required for the Administrator to determine the acceptability of approving the S/L/T's rules, requirements or programs in lieu of the Federal section 112 rules or programs. Additionally, it is also necessary for the proper performance of our function, and will be used to ensure that the subpart E approval criteria have been met. The collection of information is authorized under 42 U.S.C. 7401-7671q.

Burden Statement: We estimate the annual public reporting and recordkeeping burden for this collection of information to average about 507 hours per S/L/T and 41 hours per application. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State, territorial, local, or tribal agencies.

Estimated Number of Respondents: 124 S/L/Ts for maximum achievable control technology standards and 99 S/L/Ts for area source standards per year.

Frequency of Response: Occasionally, one time per delegation request.

Estimated Total Annual Burden Hours: 62,844.

Estimated Total Annual: $3,012,600. This includes an estimated labor burden cost of $2,959,000 and an estimated cost of $53,600 for operation and maintenance costs.

Changes in the Estimate: There is an increase of 21,267 hours in the total estimated respondent annual burden compared with that identified in the ICR currently approved by OMB.

This increase reflects the increase in number of delegation applications related to the number of standards delegated and a change in the distribution of S/L/Ts using each option.

Dated: September 13, 2007.
Sara Hisel-McCoy,
Acting Director, Collection Strategies Division.

[FR Doc. E7-18682 Filed 9-20-07; 8:45 am]

BILLING CODE 6560-50-P